DEPARTMENT OF ENERGY

Federal Energy Regulatory Commission

Notice of Commission Staff Attendance

The Federal Energy Regulatory Commission (Commission) hereby gives notice that members of the Commission's staff may attend the following meeting related to the transmission planning activities of the Southern Company Services, Inc.:

2012 Southeastern Regional Transmission Planning Process (SERTP) 1st Quarter Meeting—Regional Planning Stakeholders' Group Meeting and Interactive Training Session

March 14, 2012, 9 a.m.-5 p.m., Local Time

The above-referenced meeting will be held at:

Alabama Power Company Corporate Headquarters, Room 4H, Birmingham, Alabama

The above-referenced meeting is open to stakeholders.

Further information may be found at: www.southeasternrtp.com.

The discussions at the meeting described above may address matters at issue in the following proceedings:

Docket No. ER10-2881, Alabama Power Company, et al.

Docket No. ER10-2882, Southern Power Company, et al.

Docket No. ER10-2883, Mississippi Power Company, et al.

Docket No. ER10-2884, Georgia Power Company, et al.

Docket No. ER10-2885, Gulf Power Company, et al.

Docket No. ER11-3429, Alabama Power Company

Docket No. ER12-337, Mississippi Power Company

For more information, contact Valerie Martin, Office of Energy Market Regulation, Federal Energy Regulatory Commission at (202) 502-6139 or Valerie.Martin@ferc.gov.

Dated: March 7, 2012.
Nathaniel J. Davis, Sr.,
Deputy Secretary.

[FR Doc. 2012-5993 Filed 3-12-12; 8:45 am]

BILLING CODE 6717-01-P